DEPARTMENT OF LABOR

Bureau of Labor Statistics

Business Research Advisory Council; Notice of Meetings and Agenda

The regular Spring meetings of the Business Research Advisory Council and its committees will be held on March 26 and 27, 2003. All of the meetings will be held in the Conference Center of the Postal Square Building, 2 Massachusetts Avenue, NE., Washington, DC.

The Business Research Advisory Council and its committees advise the Bureau of Labor Statistics with respect to technical matters associated with the Bureau's programs. Membership consists of technical officials from American business and industry.

The schedule and agenda for the meetings are as follows:

Wednesday—March 26, 2003 Meeting Rooms 7 & 8

10-11:30 a.m.—Committee on Productivity and Foreign Labor Statistics

1. New measures of the ratios of hours worked to hours paid for major sector productivity.

2. Industry productivity measures for the service sector: overview of trends and plans for future development.

3. Brief update on plans for NAICS conversion.

4. International trends in manufacturing productivity.

5. Discussion of agenda items for the Fall 2003 meeting.

1-2:30 p.m.—Committee on Compensation and Working Conditions

1. Discussion of what items are included in and excluded from the Employment Cost Index.

2. Continued discussion of the methods of determining the cost of benefits, and how benefit usage figures into cost calculations.

3. Discussion of agenda items for the Fall 2003 meeting.

3-4:30 p.m.—Committee on Employment and Unemployment Statistics

1. Impact of Census 2000 on the CPS-CES gap—Tom Nardone.

2. Review of past and current approaches, and discussion of possible future approaches to benchmarking State and area labor force estimates to the CPS—Sandi Mason.

3. Impact of the CES Redesign and NAICS implementation on sub-national data—John Steward.

4. Discussion of agenda items for the Fall 2003 meeting.

Thursday—March 27, 2003 Meeting Rooms 7 & 8

8:30-10 a.m.—Committee on Price Indexes

1. The new superlative CPI (C-CPI-U) is routinely revised to incorporate more recent information. The first such revisions were issued with CPI data for January 2003. The impact of the revisions on the behavior of the superlative measure will be discussed.

2. In conjunction with the Bureau of Economic Analysis, BLS staff undertook an analysis of the differences in behavior of the CPI and the implicit price deflators for the personal consumption expenditures (PCE) component of the national accounts. The results of this analysis will be presented.

3. Use of hedonic quality adjustment techniques in the CPI has expanded considerably over the past several years. Reactions to the recommendations of the Committee on National Statistics on this topic and our future research plans will be presented.

4. Discussion of agenda items for the Fall 2003 meeting.

10:30 a.m.-12 p.m.—Council Meeting

1. Commissioner's address.

2. Discussion of agenda items for the Fall 2003 meeting.

1:30-3 p.m.—Committee on Occupational Safety and Health

1. 2001 Survey of Occupational Injuries and Illnesses Results: a. December Summary Release; b. March Case and Demographics Release;

2. Status of Internet Data Collection: Recommendations regarding new data on Time of Event; and Start of Shift.

3. Upcoming publications: a. CFOI Chart Book; b. Respirator Survey Analytical Tables, c. Workplace Violence, Multiple Fatalities.

4. Budget Update.

5. Recommendations for new Committee Members.

6. Discussion of agenda items for the Fall 2003 meeting.

The meetings are open to the public. Persons with disabilities wishing to attend these meetings as observers should contact Tracy A. Jack, Liaison, Business Research Advisory Council at 202-691-5869 or jack_t@bls.gov, for appropriate accommodations.

Due to scheduling difficulties, we have been unable to provide the full 15 days of advance notice for the meeting.

Signed at Washington, DC this 14th day of March, 2003.
Kathleen P. Utgoff,
Commissioner.

[FR Doc. 03-6560 Filed 3-18-03; 8:45 am]

BILLING CODE 4510-24-M